DEPARTMENT OF JUSTICE

Bureau of Prisons

Notice of Intent To Prepare a Draft Environmental Impact Statement (DEIS) for Housing Up to 2,500 Low Security, Adult Inmate Beds at Privately Owned Institution in Lake City, FL and/or Baldwin, MI

AGENCY: U.S. Department of Justice, Federal Bureau of Prisons.

ACTION: Notice of Intent to Prepare a Draft Environmental Impact Statement (DEIS).

SUMMARY: Pursuant to Section 102(2)(c) of the National Environmental Policy Act (NEPA) of 1969, as implemented by the Council on Environmental Quality Regulations (40 Code of Federal Regulations [CFR] Parts 1500-1508), the Federal Bureau of Prisons (BOP) intends to prepare a Draft Environmental Impact Statement (DEIS) and conduct Public Scoping Meetings for the proposed housing of inmates under Criminal Alien Requirement 9, at proposed facilities in Lake City, Florida and/or Baldwin, Michigan.

SUPPLEMENTARY INFORMATION: The mission of the United States Department of Justice, BOP, is to protect society by confining offenders in the controlled environments of prison and community-based facilities that are safe, humane, cost-efficient, and appropriately secure, and that provide work and other self-improvement opportunities to assist offenders in becoming law-abiding citizens. The BOP accomplishes its mission through the appropriate use of community correction, detention, and correctional facilities that are either: federally-owned and operated; federally-owned and non-federally operated; and non-federally owned and operated.

Proposed Action

The BOP is facing a period of unprecedented growth in its inmate population. Projections show the federal inmate population increasing from approximately 201,600 inmates at the end of fiscal year 2008 to 212,000 inmates by the end of fiscal year 2010. As such, the demand for bed space within the federal prison system continues to grow at a significant rate. To accommodate a portion of the growing inmate population, the BOP has determined that an additional federal, low-security facility is needed in its system. To meet this need, the BOP proposes to contract with a contractor owned and operated correctional facility that can house up to 2,500 sentenced or un-sentenced criminal aliens.

Proposals received by the BOP from private contractors include a proposed expansion of an existing facility in Baldwin, Michigan and/or new construction at a site in Lake City, Florida. The BOP has preliminarily evaluated these sites and determined that the prospective sites appear to be of sufficient size to provide space for housing, programs, administrative services and other support facilities associated with the correctional facility. The DEIS to be prepared by the BOP will analyze the potential impacts of correctional facility construction/renovation and operation at these sites.

The Process

In the process of evaluating the sites, several aspects will receive detailed examination including, but not limited to: Topography, geology/soils, hydrology, biological resources, utility services, transportation services, cultural resources, land uses, socio-economics, hazardous materials, and air and noise quality, among others.

Alternatives

In developing the DEIS, the options of “no action” and “alternative sites” for the proposed facility will be fully and thoroughly examined.

Scoping Process

During the preparation of the DEIS, there will be opportunities for public involvement in order to determine the issues to be examined in the DEIS. A Public Scoping Meeting will be held at 6 p.m. June 30, 2009 at the Columbia County Public Library located at 308 NW Columbia Avenue, Lake City, Florida.

In addition, a Public Scoping meeting will be held at 6 p.m., July 7, 2009 at the Webber Township Hall located at 2286 West Springtime Street, Baldwin, Michigan. The meeting locations, dates, and times will be well publicized and have been arranged to allow for public involvement, as well as interested agencies and organizations to attend. The meetings are being held to allow interested persons to formally express their views on the scope and significant issues to be studied as part of the DEIS process. The meetings will provide for timely public comments and understanding of federal plans and programs with possible environmental consequences as required by the NEPA of 1969, as amended, and the National Historic Preservation Act of 1966, as amended.

DEIS Preparation

Public notice will be given concerning the availability of the DEIS for public review and comment at a later date.

ADDRESSES: All are encouraged to provide comments on the proposed action and alternatives at any Public Scoping Meetings and anytime during the 30-day comment review period, which ends July 20, 2009. There are two ways in which comments may be submitted: (1) by attending one of the meetings or (2) by mail. All written comments on the DEIS should be submitted and postmarked no later than July 20, 2009.

Comments submitted by mail or questions concerning the proposed action and the DEIS may be directed to: Richard A. Cohn, Chief or Issac Gaston, Site Selection Specialist, Capacity Planning and Site Selection Branch, Federal Bureau of Prisons, 320 First Street, NW., Washington, DC 20534, Tel: 202-514-6470/Fax: 202-616-6024/E-mail: racohn@bop.gov.

Dated: June 10, 2009.
Richard A. Cohn,
Chief, Capacity Planning and Site Selection Branch.

[FR Doc. E9-14179 Filed 6-18-09; 8:45 am]

BILLING CODE P